DEPARTMENT OF COMMERCE

International Trade Administration

Notice of Scope Rulings

AGENCY: Enforcement and Compliance, International Trade Administration, Department of Commerce.

DATES: Effective Date: March 15, 2017.

SUMMARY: The Department of Commerce (“Department”) hereby publishes a list of scope rulings and anticircumvention determinations made between January 1, 2016, and March 31, 2016, inclusive. We intend to publish future lists after the close of the next calendar quarter.

FOR FURTHER INFORMATION CONTACT: Brenda E. Waters, AD/CVD Operations, Customs Liaison Unit, Enforcement and Compliance, International Trade Administration, U.S. Department of Commerce, 1401 Constitution Avenue NW., Washington, DC 20230; telephone: 202-482-4735.

SUPPLEMENTARY INFORMATION:

Background

The Department's regulations provide that the Secretary will publish in the Federal Register a list of scope rulings on a quarterly basis.¹ Our most recent notification of scope rulings was published on October 7, 2016.² This current notice covers all scope rulings and anticircumvention determinations made by Enforcement and Compliance between January 1, 2016, and March 31, 2016, inclusive. Subsequent lists will follow after the close of each calendar quarter.

¹ See 19 CFR 351.225(o).

² See Notice of Scope Rulings, 81 FR 69784 (October 7, 2016).

Scope Rulings Made Between January 1, 2016 and March 31, 2016

Mexico

A-201-805: Certain Circular Welded Non-Alloy Steel Pipe From Mexico

Requestor: Regiomontana de Perfiles y Tubos S.A. de C.V.; certain black, circular tubing produced to ASTM A-513 specifications meet the exclusion criteria for mechanical tubing and are, therefore, not included within the scope of the order; March 31, 2016.

People's Republic of China

A-570-967 and C-570-968: Aluminum Extrusions From the People's Republic of China

Requestor: Plexus Corporation; Silver Spring Network Enclosure (SSN Enclosures) and Silver Spring Network Enclosure Kits (SSNE Kits); The SSN Enclosure are imported separately or grouped with spare parts, and because they are composed of only aluminum extrusions, under the finished merchandise provision, they are included within the scope of the orders. However, when the SSN Enclosures are imported with both aluminum and non-extruded aluminum components to fully fabricate into a product that would serve as a subassembly ready for use in conjunction with a downstream product upon installation, these SSNE Kits meet the finished goods kit criteria and are excluded from the scope of the orders; January 5, 2016.

A-570-967 and C-570-968: Aluminum Extrusions From the People's Republic of China

Requestor: Ventana Design-Build Systems, Inc.; Ventana Window Walls are customized window-wall structures that at the time of importation contain all of the parts necessary to assemble into a finished window wall, which meet the criteria of finished goods kits, and are thus, excluded from the scope of the orders; January 19, 2016.

A-570-967 and C-570-968: Aluminum Extrusions From the People's Republic of China

Requestor: Homecrest Outdoor Living, LLC; Homecrest Woven Polypropylene Seats are woven seats that incorporate extruded aluminum frames with wicker material formed of polypropylene rope, which meet the finished merchandise criteria, and thus are excluded from the scope of the orders; January 27, 2016.

A-570-967 and C-570-968: Aluminum Extrusions From the People's Republic of China

Requestor: Pentair Water Pool and Spa, Inc. (“Pentair”); Pentair's telescopic aluminum pool poles and detachable skimmers and rakes are fully and permanently assembled and completed at the time of entry and contain non-extruded aluminum components beyond mere fasteners, and, thus, are excluded from the scope of the orders as finished merchandise; March 11, 2016.

A-570-967 and C-570-968: Aluminum Extrusions From the People's Republic of China

Requestor: Trending Imports LLC (“Trending”); Trending's aluminum extrusions made from 5050 grade aluminum alloy material were preliminary found to be outside of the scope of the orders on aluminum extrusions from the PRC because the 5050 alloy products meet the explicit exclusion in the scope of “aluminum alloy{s} with an Aluminum Association series designation commencing with the number 5 and containing in excess of 1.0 percent magnesium by weight.”; March 11, 2016.

A-570-967 and C-570-968: Aluminum Extrusions From the People's Republic of China

Requestor: Kota International, LTD (“Kota”); Kota's ACS-50 series aluminum extrusions made from 5xxx series grade aluminum alloy material were preliminary found to be outside of the scope of the orders on aluminum extrusions from the PRC because the 5xxx series alloy products meet the explicit exclusion in the scope of “aluminum alloy{s} with an Aluminum Association series designation commencing with the number 5 and containing in excess of 1.0 percent magnesium by weight.”; March 11, 2016.

A-570-901: Certain Lined Paper Products From the People's Republic of China

Requestor: Nelson Torres Advertising (“NTA”); NTA's funeral album product is within the scope of the order on certain lined paper products from the PRC because the product does not meet any of the specific exclusion criteria for products intended for specific record keeping uses, such as “desk and wall calendars and organizers,” “telephone logs,” or “address books; January 12, 2016.

A-570-943 and C-570-944: Certain Oil Country Tubular Goods From the People's Republic of China

Requestor: DynaEnergetics U.S. Inc.; certain tubing for perforating gun carriers which is a tubular steel product used in the drilling of an oil well is within the scope of the antidumping and countervailing duty orders; February 12, 2016.

A-570-970 and C-570-971: Multilayered Wood Flooring From the People's Republic of China

Requestor: Old Master Products, Inc. (“Old Master”); Old Master's two-layer wood flooring products are not within the scope of the Orders on multilayered wood flooring from the PRC because they lack the expressed requirement of two or more layers or plies of wood veneer in combination with a core; February 4, 2016.

A-570-970 and C-570-971: Multilayered Wood Flooring From the People's Republic of China

Requestor: Jiashan Huijiale Decoration Material Co., Ltd. (“Jiashan Huijiale”); Jiashan Huijiale's two-layer engineered wood flooring panel with bottom-surface inlays is not within the scope of the Orders on multilayered wood flooring from the PRC, because it lacks the requisite two or more layers or plies of wood veneer in combination with a core; February 29, 2016.

A-570-875: Non-Malleable Cast Iron Pipe Fittings From the People's Republic of China

Requestor: SIGMA Corporation (“SIGMA”); SIGMA's list of 94 ductile iron pipe fittings are covered by the scope of the non-malleable pipe fittings order because they meet all of the ASME and UL specifications characterizing it as subject merchandise; January 13, 2016.

A-570-956 and C570-957: Seamless Carbon and Alloy Steel Standard, Line, and Pressure Pipe From the People's Republic of China

Commercial Honing LLC dba Commercial Fluid Power (“Commercial Honing”); Commercial Honing's 12 sizes of mechanical tubing are outside the scope of the Orders on seamless carbon and alloy steel standard, line, and pressure pipe from the PRC because they meet the exclusion language of the scope. However, one size of Commerical Honing's mechanical tubing falls within the scope of the Orders because it does not meet the requirements set forth in the exclusion language; February 25, 2016.

Interested parties are invited to comment on the completeness of this list of completed scope and anticircumvention inquiries. Any comments should be submitted to the Deputy Assistant Secretary for AD/CVD Operations, Enforcement and Compliance, International Trade Administration, 1401 Constitution Avenue NW., APO/Dockets Unit, Room 18022, Washington, DC 20230.

This notice is published in accordance with 19 CFR 351.225(o).

Dated: March 9, 2017.
Gary Taverman,
Associate Assistant Secretary for Antidumping and Countervailing Duty Operations.

[FR Doc. 2017-05167 Filed 3-14-17; 8:45 am]

BILLING CODE 3510-DS-P